DEPARTMENT OF AGRICULTURE

Forest Service

Sierra County Resource Advisory Committee

AGENCY: Forest Service, USDA.

ACTION: Notice of meeting.

SUMMARY: The Sierra County Resource Advisory Committee will meet in Sierraville and/or Downieville, CA. The committee is authorized under the Secure Rural Schools and Community Self-Determination Act (Pub. L. 112-141) (the Act) and operates in compliance with the Federal Advisory Committee Act. The purpose of the committee is to improve collaborative relationships and to provide advice and recommendations to the Forest Service concerning projects and funding consistent with title II of the Act. The meetings are open to the public. The purposes of the meeting(s) are to review and recommend projects authorized under title II of the Act.

DATES: The meetings will be held September 7, 2012 beginning at 9 a.m. in Sierraville and on September 10, 2012 in Downieville beginning at 9 a.m. (if needed as a back-up meeting in case the meeting in Sierraville was cancelled due to an emergency.)

ADDRESSES: The meetings will be held at the Forest Service Sierraville District Ranger Station, 317 S. Lincoln St. (Hwy 89), Sierraville, CA, 96126 and/or at the Downieville Community Hall, 327 Main St, Downieville, CA, 95936.

Written comments may be submitted as described under Supplementary Information. All comments, including names and addresses when provided, are placed in the record and are available for public inspection and copying. The public may inspect comments received at Tahoe National Forest Headquarters, Nevada City. Please call ahead to 530-265-4531 to facilitate entry into the building to view comments.

FOR FURTHER INFORMATION CONTACT: Ann Westling, Public Affairs Officer, Tahoe National Forest, 530-478-6205, awestling@fs.fed.us, TDD 530-478-6118. Individuals who use telecommunication devices for the deaf (TDD) may call the Federal Information Relay Service (FIRS) at 1-800-877-8339 between 8 a.m. and 8 p.m., Eastern Standard Time, Monday through Friday.

SUPPLEMENTARY INFORMATION: The following business will be conducted: Welcome and introductions, project proposal review, public comments, and vote on project proposals. Anyone who would like to bring related matters to the attention of the committee may file written statements with the committee staff before or after the meeting. The agenda will include time for people to make oral statements of three minutes or less. Individuals wishing to make an oral statement should request in writing by 8/24/2012 to be scheduled on the agenda. Written comments and requests for time for oral comments must be sent to Ann Westling, 631 Coyote Street, Nevada City, CA, 95959. A summary of the meeting will be posted at http://www.fs.usda.gov/main/tahoe/home within 21 days of the meeting.

Meeting Accommodations: If you are a person requiring reasonable accomodation, please make requests in advance for sign language interpreting, assistive listening devices or other reasonable accommodation for access to the facility or proceedings by contacting the person listed under FOR FURTHER INFORMATION CONTACT. All reasonable accommodation requests are managed on a case by case basis.

Dated: August 8, 2012.
Tom Quinn,
Tahoe National Forest Supervisor.

[FR Doc. 2012-20031 Filed 8-14-12; 8:45 am]

BILLING CODE 3410-11-P